DEPARTMENT OF ENERGY

Federal Energy Regulatory Commission

[Project No. 13123-031]

Eagle Crest Energy Company; Notice of Intent To Prepare an Environmental Assessment

On October 12, 2022, Eagle Crest Energy Company filed an application to revise the project boundary to remove the Red Bluff Substation from the project boundary and relocate a portion of the transmission line for the unconstructed Eagle Mountain Pumped Storage Project No. 13123. The project would be located at an inactive mine in Riverside County, California, near the town of Desert Center. The project will occupy private lands and approximately 699.2 acres of Federal land under the jurisdiction of the Department of the Interior (Interior) and Bureau of Land Management (BLM). The project boundary amendment pertains to the transmission line portion and its tie-in to the Red Bluff substation.

The Commission issued a public notice of the amendment application on March 16, 2023, with protests, comments, and motions to intervene due to be filed by April 17, 2023. In response to the public notice, Commission staff received comments concerning the potential environmental effects of the proposed license amendment on resources in the area, including endangered species.

This notice identifies Commission staff's intention to prepare an environmental assessment (EA) for the project. The planned schedule for the completion of the EA is July 2024.¹ Revisions to the schedule may be made as appropriate. The EA will be issued and made available for review by all interested parties. All comments filed on the EA will be reviewed by staff and considered in the Commission's final decision on the proceeding.

¹ 42 U.S.C. 4336a(g)(1)(B) requires lead Federal agencies to complete EAs within 1 year of the agency's decision to prepare an EA.

With this notice, the Commission is inviting Federal, State, local, and Tribal agencies with jurisdiction and/or special expertise with respect to environmental issues affected by the proposal to cooperate in the preparation of the EA planned to be issued July 2024. Agencies wishing to cooperate, or further discuss the benefits, responsibilities, and obligations of the cooperating agency role, should contact staff listed at the bottom of this notice by February 15, 2024. Cooperating agencies should note the Commission's policy that agencies that cooperate in the preparation of any environmental document cannot also intervene. See 94 FERC ¶ 61,076 (2001).

The Commission's Office of Public Participation (OPP) supports meaningful public engagement and participation in Commission proceedings. OPP can help members of the public, including landowners, environmental justice communities, Tribal members, and others to access publicly available information and navigate Commission processes. For public inquiries and assistance with making filings such as interventions, comments, or requests for rehearing, the public is encouraged to contact OPP at (202) 502-6595 or OPP@ferc.gov.

Any questions regarding this notice may be directed to Shawn Halerz at (202) 502-6360 or Shawn.Halerz@ferc.gov.

Dated: January 25, 2024.
Debbie-Anne A. Reese,
Acting Secretary.

[FR Doc. 2024-01904 Filed 1-30-24; 8:45 am]

BILLING CODE 6717-01-P